DEPARTMENT OF TRANSPORTATION

Federal Transit Administration

Docket No. FTA-2009-0010]

Urbanized Area Formula Program: Proposed Circular

AGENCY: Federal Transit Administration (FTA), DOT.

ACTION: Notice of Availability of Proposed Circular.

SUMMARY: The Federal Transit Administration (FTA) has placed in the docket and on its Web site, proposed guidance in the form of a circular to assist grantees in implementing the Urbanized Area Formula Program (Section 5307). The Urbanized Area Formula Program provides grants for capital, planning, and some operating projects in urbanized areas. By this notice, FTA invites public comment on the proposed circular 9030.1D, Urbanized Area Formula Program: Program Guidance and Application Instructions for the program.

DATES: Comments must be submitted by November 30, 2009. Late-filed comments will be considered to the extent practicable.

ADDRESSES: You may submit comments identified by the docket number [FTA-2009-0010] by any of the following methods:

1. Federal eRulemaking Portal: Go to www.regulations.gov. Follow the online instructions for submitting comments on the U.S. Government electronic docket site.

2. Fax: 202-493-2251.

3. Mail: U.S. Department of Transportation, 1200 New Jersey Ave., SE., Docket Operations, M-30, West Building Ground Floor, Room W12-140, Washington, DC 20590-0001.

4. Hand Delivery: U.S. Department of Transportation, 1200 New Jersey Ave., SE., Docket Operations, M-30, West Building Ground Floor, Room W12-140, Washington, DC 20590 between 9 a.m. and 5 p.m., Monday through Friday, except Federal holidays.

Instructions: You must include the agency name (Federal Transit Administration) and Docket number (FTA-2009-0010) for this notice at the beginning of your comments. You should submit two copies of your comments if you submit them by mail. If you wish to receive confirmation that FTA received your comments, you must include a self-addressed stamped postcard. Note that all comments received will be posted without change to www.regulations.gov including any personal information provided and will be available to internet users. You may review DOT's complete Privacy Act Statement in the Federal Register published on April 11, 2000 (65 FR 19477). Docket: For access to the docket to read background documents and comments received, go to www.regulations.gov at any time or to the U.S. Department of Transportation, 1200 New Jersey Ave., SE., Docket Operations, M-30, West Building Ground Floor, Room W12-140, Washington, DC 20590 between 9 a.m. and 5 p.m., Monday through Friday, except Federal holidays.

FOR FURTHER INFORMATION CONTACT: Henrika Buchanan-Smith, Office of Program Management, Federal Transit Administration, 1200 New Jersey Ave., SE., East Building, Fourth Floor, Washington, DC 20590, phone: (202) 366-5080, fax: (202) 366-7951, or e-mail, Henrika.Buchanan-Smith@dot.gov; or Richard Wong, Office of Chief Counsel, Federal Transit Administration, 1200 New Jersey Ave., SE., East Building, Fifth Floor, Washington, DC 20590, phone: (202) 366-0675, fax: (202) 366-3809, or e-mail, Richard.Wong@dot.gov.

SUPPLEMENTARY INFORMATION:

Table of Contents

I. Overview

II. Chapter-by-Chapter Analysis

A. Chapter I—Introduction and Background

B. Chapter II—Program Overview

C. Chapter III—General Program Information

D. Chapter IV—Program Development

E. Chapter V—Coordinated Planning

F. Chapter VI—Program Management and Administrative Requirements

G. Chapter VII—Other Provisions

H. Appendices

I. Overview

This notice provides a summary of proposed changes to FTA Circular 9030.1C, Urbanized Area Formula Program: Grant Application Instructions. The Safe, Accountable, Flexible, Efficient Transportation Equity Act: A Legacy for Users (SAFETEA-LU), Public Law 109-59, signed into law on August 10, required changes to the Urbanized Area Formula Program (Section 5307 program). FTA is updating the existing circular, developed in 1998, to reflect changes in the law. The final circular, when adopted, will supersede the existing circular.

This document does not include the proposed circular; an electronic version is available on FTA's Web site, at http://www.fta.dot.gov. Paper copies of the circular may be obtained by contacting FTA's Administrative Services Help Desk, at (202) 366-4865.

Readers familiar with the existing FTA Circular 9030.1C will notice that FTA is proposing a complete reorganization to make this circular consistent with the style of other circulars FTA is updating. Substantive changes in content are discussed in the chapter-by-chapter analysis.

II. Chapter-by-Chapter Analysis

A. Chapter I—Introduction and Background

Chapter I of the proposed circular is an introductory chapter and covers general information about FTA and how to contact us, briefly reviews the authorizing legislation for the Urbanized Area Formula program (a.k.a. “Section 5307 program”), provides information about Grants.gov, includes definitions applicable to the program and provides a brief program history. The definitions section is new to this circular, and includes definitions related to the Section 5307 program. Where applicable, we have used the same definitions found in rulemakings or other circulars to ensure consistency.

In the existing circular, Chapter I includes a number of topics that have been relocated in the proposed circular. We have renamed the existing section, “Other Funds Available for Transit Projects,” as “Relationship to Other Programs” for consistency with other circulars, and moved the section to Chapter II. We propose moving the information regarding “flexible funds” to the “Relationship to Other Programs” section in proposed Chapter II, and propose moving information on apportionments and local and federal share to Chapter III. In addition, we have removed or streamlined some information in the existing Chapter I. For example, we propose removing the section on “Codification of Federal Transit Laws” as it is no longer pertinent, and we have incorporated the information in the section, “Grant Application Process” into other sections of the proposed circular.

B. Chapter II—Program Overview

Chapter II of the existing circular, “Applicant Eligibility” is limited to a discussion about designated recipients. This information has been updated and is included in the proposed Chapter II, in addition to more detail about the Urbanized Area Formula program. Chapter II of the proposed circular starts with the statutory authority for the Urbanized Area Formula program, followed by the goals of the program, recipient designation, the roles of the designated recipient and FTA, a discussion about transportation management areas, FTA oversight, and the relationship of the Urbanized Area Formula Program to other FTA programs. The information found in this proposed chapter is consistent with other circulars FTA has recently updated.

C. Chapter III—General Program Information

Chapter III of the existing circular, “Eligible Grant Activities,” addresses eligible capital, operating and planning activities, as well as pre-award authority, letters of no prejudice, and advance capital project authority. Eligible projects continue to be in Chapter III and the lists have been updated consistent with changes made by SAFETEA-LU. Advance capital project authority also remains in Chapter III. Transportation development credits (formerly referred to as toll revenue credits) has been added to the proposed Chapter III to provide a calculation method that is consistent with the method used by FHWA. We propose moving preventive maintenance into Appendix E due to the length and complexity of the topic. We propose moving pre-award authority, and letters of no prejudice to Chapter IV. Additional information addressed in the proposed Chapter III includes apportionments, funds availability, and local and federal share. All of these sections have been updated to be consistent with the law and with the format of other recently revised FTA circulars.

D. Chapter IV—Program Development

The existing Chapter IV, “Apportionments” addresses how funds are apportioned under the urbanized area formula, as well as transfers of apportionments. These sections have been moved to the proposed Chapter III. The proposed Chapter IV, “Program Development,” addresses the role of the designated recipient and the metropolitan planning organization (MPO), applicants other than designated recipients, pass-through arrangements (formerly found in Chapter II); subarea allocation and transfer of funds for highway projects (formerly found in Chapter IV), planning requirements (formerly in Appendix A); program of projects and public participation requirements, and certifications and assurances (formerly found in Chapter V), and undertaking projects in advance, a catch-all section for pre-award authority, and letters of no prejudice (formerly found in Chapter III).

FTA has revised each of these sections to reflect changes in statutes, regulations, and/or FTA policy. We also propose streamlining some sections, such as planning, while expanding others, such as certifications and assurances, to provide more detailed information.

E. Chapter V—Coordinated Planning

The proposed Chapter V addresses the coordinated planning process required for the Section 5310, Elderly Individuals and Individuals with Disabilities formula program; the Section 5316, Job Access and Reverse Commute (JARC) program; and the Section 5317, New Freedom program. Often the designated recipient for the Urbanized Area Formula program will also be the designated recipient for one or more of these human services transportation programs. The proposed Chapter V contains substantially the same information as that found in FTA Circular 9040.1F, Nonurbanized Area Formula Program Guidance and Grant Application Instructions.

The information found in the existing Chapter V, “Requirements Associated with Urbanized Area Formula Program Grants” has all been relocated to other chapters or eliminated. The section, “National Transit Database Reporting System” has been updated and moved to the proposed Chapter VI. We have provided a link to the FTA Web site as well as to the Transportation Electronic Award Management (TEAM) system, where applicants can find the instructions. We propose moving the “Certification Procedures” to the proposed Chapter IV. The section on “FTA Oversight” has been updated and moved to the proposed Chapter II. The “Certifications Particular to the Urbanized Area Formula Program” section has been renamed, “Certifications Required by 49 U.S.C. 5307” and moved to Chapter IV. We propose moving the updated information on program of projects and public participation requirements to Chapter IV.

Finally, we propose eliminating the “Alphabetical List of Other Requirements.” The substance of that section has been moved to other chapters. Updated information related to “Associated Capital Maintenance Items,” “New Technology Introduction” and “Lease vs. Buy Considerations” can be found in Chapter III, under “Capital Projects;” updated information on “Buses,” “Bus Facilities” and “Fixed Guideway Rolling Stock,” is in proposed Chapter VI. We have consolidated the information on buses and rolling stock and renamed the section, “Requirements Related to Rolling Stock and Equipment.” We propose removing the section on “New Starts;” information on how the New Starts program relates to the Urbanized Area Formula program is in Chapter II. Updated information on the rest of the content of existing Chapter V is in proposed Chapter VII.

F. Chapter VI—Program Management and Administrative Requirements

The content of existing Chapter VI, “Application Instructions,” has been updated, streamlined, and moved to Appendix A. The proposed Chapter VI contains information on the TEAM system, Electronic Clearing House Operation (ECHO system, and, as previously discussed, information on the National Transit Database, requirements related to vehicles and equipment, and requirements related to facilities. The information in this chapter is consistent with that found in other recently updated FTA circulars.

G. Chapter VII—Other Provisions

Chapter VII of the existing circular contains instructions for preparing a project budget. This information has been updated and moved to Appendix B, consistent with other recently revised FTA circulars. The proposed Chapter VII is similar to the “Other Provisions” chapters in other FTA circulars, and summarizes a number of FTA-specific and other Federal requirements that FTA grantees are held to in addition to the program-specific requirements and guidance provided in the circular. As previously stated, some of the information has been relocated from the existing Chapter V's “Alphabetical Listing of Other Requirements.” Other sections, including charter bus, commercial driver's license, and the presidential coin act are new to this circular. Recipients should use this chapter, in conjunction with FTA's “Master Agreement” and the current fiscal year “Certifications and Assurances,” to assure that they have met all requirements. Recipients may contact FTA Regional Counsel for more detail about these requirements.

G. Appendices

The proposed appendices are intended as tools for developing a grant application. Appendix A specifically addresses steps and instructions for preparing a grant application, including pre-application and application stages. This information is comparable to Chapter VI, “Application Instructions,” in the existing circular, although it has been updated and reorganized. Appendix A also includes an application checklist. Proposed Appendix B provides budget information, including a sample budget, and compares with the information found in Chapter VII, “Instructions for Preparing a Project Budget,” in the existing circular. Proposed Appendix C compares with existing Appendix D, “Operating Assistance Projects,” in the existing circular. Proposed Appendix D, which compares with existing Appendix F, “Forms and Representative Documents,” in the existing circular (except the documents we propose removing, as described below), contains samples of an Authorizing Resolution, Opinion of Counsel, Fleet Status, Proceeds from the Sale of Public Transportation Assets, Like-Kind Exchange Example and Sample Supplemental Agreement. Proposed Appendix E contains a description of the preventive maintenance program, and is new to this circular. Proposed Appendix F contains updated contact information for all of FTA's regional and metropolitan offices; this information is in Chapter VIII of the existing circular.

We propose removing most of the contents of Appendix A of the existing circular, “Transportation Planning Process,” and instead including a paragraph referencing the planning regulations in Chapter IV of the proposed circular. We propose removing most of the content of existing Appendix B, “Apportionment Formula,” and relocating the basic formula in Chapter III of the proposed circular. We propose removing the content of existing Appendix C, “New Start Development Process,” and direct readers to the most recent revision of FTA Circular 9300, “Capital Investment Program Guidance and Application Instructions,” for information on New Starts.

We have relocated the existing Appendix D, “Operating Assistance Projects” to proposed Appendix C. The information has been updated, and we propose moving the sections relating to eligible projects and federal/local share to Chapter III. We propose removing the existing Appendix E, “Procedures Related to Flexible Funding” and we have relocated the substance to Chapter II and Appendix A. The existing Appendix F, “Forms and Representative Documents” compares to the proposed Appendix D. We have removed some of the sample forms, namely the Application, Lobbying Disclosure Form, Project Milestone Schedule and Subregional Allocation. The application is submitted and reviewed entirely online in TEAM and all the forms can be viewed online. The lobbying form is also available online. We propose removing the existing Appendix G, which contains information on certifications and assurances, much of which has been moved to proposed Chapter IV. We propose removing the Sample Certifications and Assurances, as this is something that is updated every year and available on FTA's Web site. We propose moving the information in Appendix H, “Interest as an Eligible Capital Cost” to the proposed Chapter III with other eligible projects.

FTA seeks public comment on the changes within proposed FTA Circular 9030.1D.

Issued in Washington, DC, this 25th day of September 2009.
Peter Rogoff,
FTA Administrator.

[FR Doc. E9-23584 Filed 9-29-09; 8:45 am]

BILLING CODE